DEPARTMENT OF HOUSING AND URBAN DEVELOPMENT

Office of Federal Housing Enterprise Oversight

12 CFR Part 1710

RIN 2550-AA20

Corporate Governance

AGENCY: Office of Federal Housing Enterprise Oversight, HUD.

ACTION: Extension of the public comment period.

SUMMARY: On September 12, 2001, the Office of Federal Housing Enterprise Oversight (OFHEO) published a notice of proposed rulemaking entitled “Corporate Governance” in the Federal Register (66 FR 47557) to set forth minimum requirements with respect to corporate governance practices and procedures for the Federal National Mortgage Association and the Federal Home Loan Mortgage Corporation (the Enterprises).

OFHEO has received requests from the Enterprises for an extension of the current deadline of November 13, 2001, for comments to permit adequate time to enable them to present their respective views in a manner that is as comprehensive and as helpful to OFHEO as possible. In recognition of the importance of obtaining fully developed and constructive comments as to the implication of this proposed rulemaking, OFHEO is extending the comment period for the Corporate Governance proposed regulation from November 13, 2001, to December 13, 2001. This is to ensure that all interested parties have ample opportunity to participate in the rulemaking process by providing meaningful comment in the development of the corporate governance regulation.

DATES: The comment period is extended until December 13, 2001.

ADDRESSES: Send written comments to Alfred M. Pollard, General Counsel, Office of General Counsel, Office of Federal Housing Enterprise Oversight, 1700 G Street, NW., Fourth Floor, Washington, DC 20552. Written comments may also be sent by electronic mail to RegComments@OFHEO.gov.

FOR FURTHER INFORMATION CONTACT: David W. Roderer, Deputy General Counsel, telephone (202) 414-3804 (not a toll-free number); or Isabella W. Sammons, Associate General Counsel, telephone (202) 414-3790 (not a toll-free number); Office of Federal Housing Enterprise Oversight, Fourth Floor, 1700 G Street, NW., Washington, DC 20552. The telephone number for the Telecommunications Device for the Deaf is (800) 877-8339.

Dated: November 6, 2001.
Armando Falcon, Jr.,
Director, Office of Federal Housing Enterprise Oversight.

[FR Doc. 01-28214 Filed 11-8-01; 8:45 am]

BILLING CODE 4220-01-P